DEPARTMENT OF HOUSING AND URBAN DEVELOPMENT

[Docket No. FR-4817-N-10]

Notice of Proposed Information Collection for Public Comment—Capital Fund Obligation Deadline Extension

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: September 19, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Capital Fund Obligation Deadline Extension.

OMB Control Number: 2577-.

Description of the need for the information and proposed use: Public Housing Agencies (PHAs) submit a request to HUD to extend the obligation deadline for their Capital Fund grant based on statutory criteria. The information contained in the request is used as a basis by HUD to evaluate reasons for delay in obligating the funds in timely manner and grant or reject the requested time extension. Section 9(j)(2), part 1, Capital and Operating Assistance, Pub. L. 105-276—Oct. 21, 1998 is the applicable statute.

Agency form numbers, if applicable: None.

Members of affected public: State or Local Government.

Estimation of the total number of hours needed to prepare the information collection including number of respondents, frequency of response, and hours of response: Respondents are identified as public housing agencies (PHAs). 20 PHAs × one request per PHA annually, 2.0 hour average per request, 40 total annual burden hours for reporting; 20 requests × .25 hours per request for recordkeeping, 5 total annual burden hours for recordkeeping; total burden hours are 45.

Status of the proposed information collection: New.

Authority: Section 3506 of the Paperwork Reduction Act of 1995, 44 U.S.C. Chapter 35, as amended.

Dated: July 15, 2003.
Michael Liu,
Assistant Secretary for Public and Indian Housing.

[FR Doc. 03-18360 Filed 7-18-03; 8:45 am]

BILLING CODE 4210-33-P